INTERNATIONAL TRADE COMMISSION

[Investigation Nos. 701-TA-686-688 and 731-TA-1612-1617 (Preliminary)]

Brass Rod From Brazil, India, Israel, Mexico, South Africa, and South Korea

Determinations

On the basis of the record ¹ developed in the subject investigations, the United States International Trade Commission (“Commission”) determines, pursuant to the Tariff Act of 1930 (“the Act”), that there is a reasonable indication that an industry in the United States is materially injured by reason of imports of brass rod from Brazil, India, Israel, Mexico, South Africa, and South Korea, provided for in subheadings 7407.21.15, 7407.21.30, 7407.21.70, and 7407.21.90 of the Harmonized Tariff Schedule of the United States, that are alleged to be sold in the United States at less than fair value (“LTFV”) and to be subsidized by the governments of India, Israel, and South Korea.²

¹ The record is defined in § 207.2(f) of the Commission's Rules of Practice and Procedure (19 CFR 207.2(f)).

² 88 FR 33566 and 88 FR 33575 (May 24, 2023).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On April 27, 2023, the American Brass Rod Fair Trade Coalition, Washington, District of Columbia; Mueller Brass Co., Port Huron, Michigan; and Wieland Chase LLC, Montpelier, Ohio filed petitions with the Commission and Commerce, alleging that an industry in the United States is materially injured or threatened with material injury by reason of subsidized imports of brass rod from India, Israel, and South Korea and LTFV imports of brass rod from Brazil, India, Israel, Mexico, South Africa, and South Korea. Accordingly, effective April 27, 2023, the Commission instituted countervailing duty investigation Nos. 701-TA-686-688 and antidumping duty investigation Nos. 731-TA-1612-1617 (Preliminary).

Notice of the institution of the Commission's investigations and of a public conference to be held in connection therewith was given by posting copies of the notice in the Office of the Secretary, U.S. International Trade Commission, Washington, DC, and by publishing the notice in the Federal Register of May 3, 2023 (88 FR 27921). The Commission conducted its conference on May 18, 2023. All persons who requested the opportunity were permitted to participate.

The Commission made these determinations pursuant to §§ 703(a) and 733(a) of the Act (19 U.S.C. 1671b(a) and 1673b(a)). It completed and filed its determinations in these investigations on June 12, 2023. The views of the Commission are contained in USITC Publication 5436 (June 2023), entitled Brass Rod from Brazil, India, Israel, Mexico, South Africa, and South Korea: Investigation Nos. 701-TA-686-688 and 731-TA-1612-1617 (Preliminary).

By order of the Commission.
Issued: June 12, 2023.
Lisa Barton,
Secretary to the Commission.

[FR Doc. 2023-12886 Filed 6-15-23; 8:45 am]

BILLING CODE 7020-02-P